DEPARTMENT OF COMMERCE

National Oceanic and Atmospheric Administration

National Climate Assessment and Development Advisory Committee (NCADAC); Notice of Open Public Meeting

AGENCY: Office of Oceanic and Atmospheric Research (OAR), National Oceanic and Atmospheric Administration (NOAA), Department of Commerce (DOC).

ACTION: Notice of open public meeting.

SUMMARY: This notice sets forth the schedule and proposed agenda of a forthcoming meeting of the DoC NOAA National Climate Assessment and Development Advisory Committee (NCADAC).

The members will discuss and provide advice on issues outlined below.

Date and Time: The meeting is scheduled for: Friday, May 20, from 1-5 p.m. Eastern Time.

ADDRESSES: Conference call. Public access will be available at the office of the U.S. Global Change Research Program, Conference Room A, Suite 250, 1717 Pennsylvania Avenue NW., Washington, DC 20006. Please check the National Climate Assessment Web site for additional information at http://www.globalchange.gov/what-we-do/assessment.

FOR FURTHER INFORMATION CONTACT: Dr. Cynthia Decker, Designated Federal Official, National Climate Assessment and Development Advisory Board, NOAA, Rm. 11230, 1315 East-West Highway, Silver Spring, Maryland 20910. (Phone: 301-734-1156, Fax: 301-713-1459, E-mail: Cynthia.decker@noaa.gov). Individuals planning to attend are requested to RSVP to Dr. Decker because space may be limited at the venue.

SUPPLEMENTARY INFORMATION: The National Climate Assessment and Development Advisory Committee was established in December 2010. The committee's mission is to synthesize and summarize the science and information pertaining to current and future impacts of climate change upon the United States; and to provide advice and recommendations toward the development of an ongoing, sustainable national assessment of global change impacts and adaptation and mitigation strategies for the Nation. Within the scope of its mission, the committee's specific objective is to produce a National Climate Assessment.

Matters To Be Considered

Consideration of white papers provided by ad hoc working groups on the subjects of:

1. The National Climate Assessment Interim Strategy, the NCA Draft Outline, and Federal Activities.

2. Engagement Strategy and Requests for Information.

3. Scenarios and Regional Summaries.

4. Peer Review, Data Management and Development of a NCA Portal.

Status: The meeting will be open to public participation with a 10-minute public comment period from 4:45-4:55 p.m. The NCADAC expects that public statements presented at its meetings will not be repetitive of previously submitted verbal or written statements. In general, each individual or group making a verbal presentation will be limited to a total time of two minutes. Written comments should be received in the NCADAC DFO's office by May 16, 2011 to provide sufficient time for NCADAC review. Written comments received by the NCADAC DFO after May 16, 2011, will be distributed to the NCADAC, but may not be reviewed prior to the meeting date.

Dated: May 4, 2011.
Mark E. Brown,
Chief Financial Officer/Chief Administrative Officer, Office of Oceanic and Atmospheric Research, National Oceanic and Atmospheric Administration.

[FR Doc. 2011-11442 Filed 5-9-11; 8:45 am]

BILLING CODE 3510-KD-P